DEPARTMENT OF COMMERCE

National Oceanic and Atmospheric Administration

Evaluation of Kachemak Bay National Estuarine Research Reserve; Public Meeting

AGENCY: Office for Coastal Management (OCM), National Ocean Service (NOS), National Oceanic and Atmospheric Administration (NOAA), Department of Commerce (DOC).

ACTION: Notice of public meeting.

SUMMARY: The National Oceanic and Atmospheric Administration (NOAA), Office for Coastal Management will hold a public meeting to solicit comments for the performance evaluation of the Kachemak Bay National Estuarine Research Reserve.

DATES: Kachemak Bay National Estuarine Research Reserve Evaluation: The public meeting will be held on Wednesday, September 19, 2018, and written comments must be received on or before Friday, September 28, 2018.

For the specific date, time, and location of the public meetings, see SUPPLEMENTARY INFORMATION.

ADDRESSES: You may submit comments on the reserve by any of the following methods: Public Meeting and Oral Comments: A public meeting will be held in Homer, Alaska for the Kachemak Bay Reserve. For the specific location, see SUPPLEMENTARY INFORMATION.

Written Comments: Please direct written comments to Jean Tanimoto, Program Evaluator, NOAA Inouye Regional Center, NOS/Office for Coastal Management, 1845 Wasp Blvd., Building 176, Honolulu, Hawaii 96818, or via email to Jean.Tanimoto@noaa.gov.

FOR FURTHER INFORMATION CONTACT: Jean Tanimoto, Program Evaluator, NOAA Inouye Regional Center, NOS/Office for Coastal Management, 1845 Wasp Blvd., Bldg 176, Honolulu, Hawaii 96818, by phone at (808) 725-5253, or via email to Jean.Tanimoto@noaa.gov. Copies of the previous evaluation findings, Management Plan, and Site Profile may be viewed and downloaded on the internet at http://coast.noaa.gov/czm/evaluations. A copy of the evaluation notification letter and most recent performance report may be obtained upon request by contacting the person identified under FOR FURTHER INFORMATION CONTACT.

SUPPLEMENTARY INFORMATION: Sections 312 and 315 of the Coastal Zone Management Act (CZMA) require NOAA to conduct periodic evaluations of federally-approved National Estuarine Research Reserves. The process includes a public meeting, consideration of written public comments, and consultations with interested Federal, state, and local agencies and members of the public. For the evaluation of National Estuarine Research Reserves, NOAA will consider the extent to which the state has met the national objectives, adhered to its management plan approved by the Secretary of Commerce, and adhered to the terms of financial assistance under the Coastal Zone Management Act. When the evaluation is completed, NOAA's Office for Coastal Management will place a notice in the Federal Register announcing the availability of the Final Evaluation Findings.

You may participate and submit oral comments at the public meeting. The public meeting will be held in conjunction with the reserve's regularly scheduled commission meeting and is scheduled as follows:

Date: Wednesday, September 19, 2018.

Time: 12:00-3:00 p.m., local time.

Location: Islands and Ocean Visitor Center, 95 Sterling Highway, Homer, Alaska 99603.

Written comments must be received on or before September 28, 2018.

Federal Domestic Assistance Catalog 11.419.

Coastal Zone Management Program Administration.

Dated: July 24, 2018.
John King,
Chief, Business Operations Division, Office for Coastal Management.

[FR Doc. 2018-16675 Filed 8-2-18; 8:45 am]

BILLING CODE 3510-08-P